COMMISSION ON CIVIL RIGHTS

Agenda and Notice of Public Meeting of the Illinois Advisory Committee

Notice is hereby given, pursuant to the provisions of the rules and regulations of the U.S. Commission on Civil Rights (Commission), and the Federal Advisory Committee Act (FACA), that a planning meeting of the Health Disparities Subcommittee of the Illinois Advisory Committee to the Commission will convene at 8 a.m. and adjourn at 10 a.m. on February 22, 2010, at 55 W. Monroe St., Chicago, IL 60603. The purpose of the meeting is to plan for the Committee's report on Health Disparities in Chicago. The meeting will consist of approximately five local health disparities experts discussing issues regarding the project.

Members of the public are entitled to submit written comments; the comments must be received in the regional office by March 22, 2010. The address is 55 W. Monroe St., Suite 410, Chicago, IL 60603. Persons wishing to e-mail their comments, or to present their comments verbally at the meeting, or who desire additional information should contact David Mussatt, Director, 312-353-8311, TDD/TTY 312-353-8324, or by e-mail: dmussatt@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, http://www.usccr.gov, or to contact the Midwestern Regional Office at the above e-mail or street address.

The meeting will be conducted pursuant to the provisions of the rules and regulations of the Commission and FACA.

Dated in Washington, DC, January 19, 2010.
Peter Minarik,
Acting Chief, Regional Programs Coordination Unit.

[FR Doc. 2010-1345 Filed 1-22-10; 8:45 am]

BILLING CODE 6335-01-P